DEPARTMENT OF AGRICULTURE

Forest Service

Nez Perce-Clearwater National Forests; Idaho; Clear Creek Integrated Restoration Project

AGENCY: Forest Service, USDA.

ACTION: Notice of intent to prepare an environmental impact statement.

SUMMARY: This is a corrected notice. This notice updates the contact information that was included in the original notice, and extends the comment due date to March 1, 2012. The original notice was published in the Federal Register on January 6, 2012, pages 775 and 776.

The Forest Service gives notice of its intent to prepare an Environmental Impact Statement for the Clear Creek Integrated Restoration Project. The Proposed action would use a combination of timber harvest, pre-commercial thinning, prescribed fire and reforestation to achieve the desired range of age classes, size classes, vegetative species distributions, habitat complexity (diversity) and landscape patterns across the forested portions of the project area. Road decommissioning, culvert replacements and road improvements are also proposed to improve watershed health. The EIS will analyze the effects of the proposed action and alternatives. The Nez Perce-Clearwater Forest invites comments and suggestions on the issues to be addressed. The agency gives notice of the National Environmental Policy Act (NEPA) analysis and decision making process on the proposal so interested and affected members of the public may participate and contribute to the final decision.

DATES: Comments concerning the scope of the analysis must be received by March 1, 2012. The draft environmental impact statement is expected in February 2013 and the final environmental impact statement is expected in November 2013.

ADDRESSES: Send written or electronic comments to Lois Hill, Interdisciplinary Team Leader; Kamiah Ranger Station; 903 3rd Street; Kamiah, ID 83536; FAX 208-935-4257; Email comments-northern-nezperce-moose-creek@fs.fed.us. Include your name, address, organization represented (if any), and the name of the project for which you are submitting comments. Electronic comments will be accepted in MS Word, Word Perfect, or Rich Text formats. Comments received in response to this solicitation, including names and addresses of those who comment, will be part of the public record for this proposed action. Comments submitted anonymously will be accepted and considered; however, anonymous comments will not provide the Agency with the ability to provide the respondent with subsequent environmental documents.

FOR FURTHER INFORMATION CONTACT: Lois Hill, Interdisciplinary Team Leader, (208) 935-4258.

SUPPLEMENTARY INFORMATION:

The objective of the Clear Creek Integrated Restoration Project is to manage forest vegetation to restore natural disturbance patterns; improve long term resistance and resilience at the landscape level; reduce fuels; improve watershed conditions; improve elk habitat effectiveness; improve habitat for early seral species; and maintain habitat structure, function, and diversity. Timber outputs from the proposed action would be used to offset treatment costs and support the economic structure of local communities and provide for regional and national needs.

Purpose and Need for the Proposal

Vegetation and Wildlife Habitat Improvement

Purpose: Trend vegetation species composition, structure, and distributions toward desired conditions described in the Forest Plan.

Need: There is a need to change tree species composition by retaining and planting early seral species, such as ponderosa pine, western larch and western white pine. The project area has a high proportion of grand fir/Douglas fir habitat. These habitats tend to be more susceptible to insects and diseases. Grand fir is unlikely to survive a wildfire. There is a need to trend the area toward a more diverse and resilient forest structure by creating a range of age classes, size classes, habitat complexity (diversity) and disturbance patterns that more closely emulate natural mixed severity disturbance. Increasing early seral species in managed areas would help trend the area toward, or maintain, desired habitat conditions and would make these habitats more resistant and resilient to change agents such as insects, diseases, and fire.

There is a need to increase diversity within previously harvested areas to begin restoring long-term habitat quality for sensitive and old growth associated species. Historic logging practices and fire suppression have created a landscape that is more highly fragmented than would be expected to result from natural disturbances. Ladder fuels have increased and there has been a shift to shade tolerant species. Habitat structure and patch sizes of young forests are simplified and smaller than would be expected to result from natural disturbances. Edges of patches are straight and even.

There is a need to increase young forest habitats on this landscape. Age classes are dominated by middle-aged and mature forest habitats. Forest management would increase high quality early seral wildlife habitats by retaining large trees and promoting establishment of tall shrubs and hardwood tree species by using variable retention regeneration harvest. In the short term, this would benefit wildlife species that use early seral habitats, such as neotropical migratory birds, resident birds, small mammals, and big game species. In the long term, large tree retention would help maintain habitat structure and complexity needed by old growth associated species.

Goods and Services

Purpose: To utilize timber outputs produced through restoration activities to support the economic structure of local communities and provide for regional and national needs (Forest Plan page II-1).

Need: There is a need to provide a sustained yield of resource outputs, as directed by the Forest Plan. Much of the area consists of grand fir dominated stands that have insect and disease infestations that are contributing to increased tree mortality, or are at risk from stand replacing events. Stands proposed for treatment are currently losing volume and value due to insects and diseases. Harvest of the timber would provide materials to local industries.

Fire Regime/Natural Disturbance Restoration and Fuel Reduction

Purpose: Reduce ladder fuels created by shade-tolerant species and create more natural patch sizes by emulating mixed severity fire. (Forest Plan page II-2)

Need: There is a need to increase patch sizes to shift age and size class distributions to increase high quality early seral wildlife habitats. Effective fire suppression in this area began in the 1930's. As a result, there has been a vegetative shift to less fire resistant species, and an increase in ladder fuels that can contribute to the risk of high intensity and potentially resource damaging wildfire. Some portions of the project area have been identified as being up to five times outside of their normal fire return intervals. Past harvest patterns do not emulate natural disturbance patterns nor do they emulate natural habitat structure. Landscape burning and timber harvest that mimics natural fire would help increase forest resilience, help reduce risk of wildfires, and help create high quality habitats that would benefit neotropical migratory birds, resident birds, small mammals, and big game species. Fire dependent wildlife species would benefit from landscape burning.

Watershed Improvement

Purpose: Reduce potential sediment inputs into the aquatic ecosystem from roads.

Need: There is a need to drain roadside ditchline water away from streams by installing cross drain pipes near live stream crossings. The cross drain pipes collect ditchline water and direct it onto the forest floor. There is also a need to replace existing undersized, damaged, or rusting culverts on streams to minimize failure potential.

There are 283 miles of road within the project area, 200 of which are needed for current and future management. The remaining 83 miles of road have been cleared for decommissioning under the SF/WF Clear Creek Road Decommissioning EA (2011). The roads needed for management can contribute sediment to streams through road surface erosion and potential culvert failures. Surface erosion occurs during spring snowmelt and rain events. Dirt coming off roads is diverted into ditchlines which are often directed into streams. Preliminary surveys show most roads in the area are drained by ditches. Culvert failures can result from undersized, damaged or rusting culverts which can plug with debris and then fail as water saturates the surrounding fill. Failures can contribute large pulses of sediment into streams. Surveys indicate at least 60 miles of road with culverts that are in need of replacement or cleaning. There is a minimum of 40 high or moderate priority culverts in need of replacement, and 12 in need of cleaning. There are an additional 40 low priority culverts in need of replacement and 15 in need of cleaning. The surveyed roads pose the highest risk to streams in the project area.

The desired condition for roads is to have ditchlines that drain road surface water away from streams and onto forest the forest floor. All culverts at stream crossings are appropriately sized to allow for the passage of material within minimal risk of plugging.

The Proposed Action would:

Improve Forest Health, Provide Goods and Services, Reduce Fuels and Improve Wildlife Habitat

• Conduct “variable retention” regeneration harvest and post harvest burning activities on up to 2500 acres to create early sucessional plant communities and improve wildlife habitat while re-establishing long-lived early seral tree species. Variable retention harvest would include areas of full retention (clumps), irregular edges, and retention of snags and legacy trees to provide structure and a future source of woody debris. Openings will likely exceed 40 acres.

• Commercially thin approximately 7810 acres to reduce stand densities improve forest health and reduce the chance of crown fire.

• Apply improvement harvest to approximately 311 acres (thin from below) to remove encroachment and ladder fuels from ponderosa pine dominated stands.

• Construct a minimum temporary road system to carry out the proposed action. Roads would be decommissioned after use.

• Pre-commercially thin approximately 1865 acres to reduce stand densities improve forest health and reduce fuels.

• Restore approximately 42 acres of bunchgrass communities through prescribed burning and revegetation with native grasses to improve wildlife winter range through reestablishment of native grasses and forbs.

• Apply approximately 1400 acres of low and mixed severity prescribed fire within the Clear Creek Roadless area to restore natural fire regimes, reduce fuels, improve wildlife habitat and create mosaic forest conditions. Proposed activities are consistent with Idaho Roadless Rule. There is no timber cutting planned within the Clear Creek Roadless area.

Reduce Sediment Production and Address Transportation Needs

• Conduct maintenance on or improve 100-130 miles of system roads including culvert installation or replacement, ditch cleaning, and riprap placement for drainage improvement. It may also include gravel placement, road grading and dust abatement.

• Additional site specific maintenance or improvements would occur to improve watershed conditions on up to 20 miles of roads outside of proposed treatment areas.

• Decommission 2-5 miles of system roads no longer considered necessary for transportation needs.

Possible Alternatives the Forest Service will consider include a no-action alternative, which will serve as a baseline for comparison of alternatives. The proposed action will be considered along with additional alternatives that will be developed to meet the purpose and need for action, and to address significant issues identified during scoping.

The Responsible Official is Rick Brazell, Nez Perce-Clearwater Forest Supervisor, Clearwater National Forest Supervisor's Office, 12730 Highway 12, Orofino, ID 83544.

The Decision To Be Made is whether to adopt the proposed action, in whole or inpart, or another alternative; and what mitigation measures and management requirements will be implemented.

The Scoping Process for the EIS is being initiated with this notice. The scoping process will identify issues to be analyzed in detail and will lead to the developemnt of alternatives to the proposal. The Forest Service is seeking information and comments from other Federal, State, and local agencies; Tribal Governments; and organizations and individuals who may be interested in or affected by the proposed action. Comments received in response to this notice, including the names and addresses of those who comment, will be a part of the project record and available for public review.

Early Notice of Importance of Public Participation in Subsequent Environmental Review: A draft environmental impact statement will be prepared for comment. The second major opportunity for public input will be when the draft EIS is published. The comment period for the draft EIS will be 45 days from the date the Environmental Protection Agency publishes the notice of availability in the Federal Register. The Draft EIS is anticipated to be available for public review in February 2013.

Dated: January 24, 2012.
Rick Brazell,
Forest Supervisor.

[FR Doc. 2012-3745 Filed 2-16-12; 8:45 am]

BILLING CODE 3410-11-P